DEPARTMENT OF TRANSPORTATION

Federal Aviation Administration

14 CFR Part 95

[Docket No. 30448; Amdt. No. 455]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, July 7, 2005.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on June 6, 2005.
James J. Ballough,
Director, Flight Standards Service.

Adoption of the Amendent

Accordingly, pursuant to the authority delegated to me by the Administrator, part 95 of the Federal Aviation Regulations (14 CFR part 95) is amended as follows effective at 0901 UTC, July 7, 2005.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 455 effective date July 07, 2005]
From | To | MEA
§ 95.1001 Direct Routes—U.S. | COLOR ROUTES | § 95.515 Green Federal Airway G15 Is Amended To Read in Part
Anvik, AK NDB/DME | Takotna River, AK NDB | *9000
*6000—MOCA
*7000—GNSS MEA
§ 95.10 Amber Federal Airway A1 Is Amended To Read in Part
Ocean Cape AK, NDB | Capem AK, INT | 6000
2000—MOCA
Capem, AK INT | Corva AK, INT | 6000
4400—MOCA
Corva, AK INT | Egger, AK NT | 2000
Egger AK, INT | Orca Bay, AK NDB | 5000
Orca Bay, AK NDB | Campbell Lake, AK NDB | 9000
8000—MOCA
§ 95.1115 Amber Federal Airway A15 Is Amended To Read in Part
Nichols, AK NDB | Sumner Strait, AK NDB | *7000
*5100—MOCA
*6000—GNSS MEA
§ 95.6 Blue Federal Airway B25 Is Amended To Read in Part
Orca Bay NDB | *Shope, AK FIX | 4900
*6600—MCA Shope, AK FIX, N BND
§ 95.5000 Ground-Based High Altitude RNAV Routes

From/To 889R | Total distance | Changeover Point: Distance | Changeover Point: From | Track angle | MEA | MAA
Nowel, AK Arise, AK | 79.77 | 10.0 | Nowel | 110T/290 TO COP 292T/112 TO Arise | 18000 | 45000
Arise, AK Konks, AK | 70.65 |  |  | 111T/291 TO Konks 293T/113 TO Konks | 18000 | 45000
Konks, AK Laire, AK | 116.24 | 40.0 | Konks | 111T/291 TO COP 294T/114 TO Laire | 18000 | 45000

From | To | MEA
§ 95.6001 Victor Routes—U.S.
§ 95.6036 VOR Federal Airway V36 Is Amended To Read in Part
Buffalo, NY VOR/DME | *Dalee, NY FIX | 3500
*8000-MRA
§ 95.6208 VOR Federal Airway V208 Is Amended by Adding
Ventura, CA VOR/DME | Weezl, CA FIX | 5000
Weezl, CA FIX | Santa Catalina, CA VORTAC | 4000
§ 95.6308 Alaska VOR Federal Airway V308 Is Amended To Read in Part
Fishh, AK FIX | Sparrevohn, AK VOR/DME | *8000
*6000—MOCA
*6000—GNSS MEA
§ 95.6317 Alaska VOR Federal Airway V317 Is Amended To Read in Part
Csper, AK FIX | *Hapit, AK FIX | **15000
*15000—MRA
**4100—MOCA
**5000—GNSS MEA
Hoods, AK FIX | Sisters Island, AK VORTAC | *7000
*5500—MOCA
*6000—GNSS MEA
Sisters Island, AK VORTAC | Csper, AK FIX | *7000
*5000—MOCA
*5000—GNSS MEA
Gesti, AK DME FIX | Level Island, AK VOR/DME | 7000
5000—MOCA
5000—GNSS MEA
Level Island, AK VOR/DME | Hoods, AK FIX | *9000
*5900—MOCA
*7000—GNSS MEA
§ 95.6319 Alaska VOR Federal Airway V319 Is Amended To Read in Part
Arsen, AK FIX | Fanci, AK FIX | *4000
*2000—MOCA
*2000—GNSS MEA
Torte, AK FIX | *Veill, AK FIX | **12000
*10000—MCA VEILL, AK FIX E BND
**10000—MOCA
**10000—GNSS MEA
§ 95.6350 Alaska VOR Federal Airway V350 Is Amended To Read in Part
Dahls, AK FIX | Emmonak, AK VOR/DME | *3600
*3000—MOCA
*3000—GNSS MEA
§ 95.6453 Alaska VOR Federal Airway V453 Is Amended To Read in Part
Bethel, AK VORTAC | Unalakleet, AK VOR/DME | *9000
*4900—MOCA
*6000—GNSS MEA
Educe, AK FIX | Bethel, AK VORTAC |
| S BND | *7000
| N BND | *4000
*2500—MOCA
*3000—GNSS MEA
§ 95.6510 Alaska VOR Federal Airway V510 Is Amended To Read in Part
Anvik, AK NDB/DME | Abear, DME FIX
| E BND | 10000
| W BND | 9000
*6200—MOCA
*7000 GNSS MEA
Abear, AK FIX | Mc Grath, AK VORTAC | *10000
*6200—MOCA
*7000—GPS MEA
§ 95.6617 Alaska VOR Federal Airway V617 Is Amended To Read in Part
Homer, AK VOR/DME | Johnstone Point, AK VOR/DME | *12000
*8600—MOCA
*9000—GNSS MEA

From | To | MEA | MAA
§ 95.7001 Jet Routes
§ 95.7094 Jet Route J94 Is Amended To Read in Part
Manteca, CA VORTAC | Kirck, CA FIX | 19000 | 45000
Kirck, CA FIX | Mustang, NV VORTAC | 19000 | 45000
§ 95.7133 Jet Route J133 Is Amended To Read in Part
Sitka, AK NDB | Orca Bay NDB | 18000 | 45000
Orca Bay, AK NDB | Johnstone Point VOR/DME | 18000 | 45000
§ 95.7711 Jet Route J711 Is Amended To Delete
Sitka, AK NDB | Laire, AK FIX | 18000 | 45000
Laire, AK FIX | Hinchinbrook, AK NDB | 18000 | 45000

[FR Doc. 05-11668 Filed 6-15-05; 8:45 am]

BILLING CODE 4910-13-P